DEPARTMENT OF HEALTH AND HUMAN SERVICES

Food and Drug Administration

[Docket No. FDA-2016-D-0768]

Donor Screening Recommendations To Reduce the Risk of Transmission of Zika Virus by Human Cells, Tissues, and Cellular and Tissue-Based Products; Guidance for Industry; Availability; Correction

AGENCY: Food and Drug Administration, HHS.

ACTION: Notice of availability; correction.

SUMMARY: The Food and Drug Administration (FDA) is correcting a notice that appeared in the Federal Register of Monday, March 7, 2016 (81 FR 11808). The document announced a guidance for industry entitled “Donor Screening Recommendations to Reduce the Risk of Transmission of Zika Virus by Human Cells, Tissues, and Cellular and Tissue-Based Products.” The document was published with an incorrect docket number in the ADDRESSES section. This document corrects that error.

FOR FURTHER INFORMATION CONTACT: Lisa Granger, Office of Policy, Planning, Legislation, and Analysis, Food and Drug Administration, 10903 New Hampshire Ave., Bldg. 32, Rm. 3330, Silver Spring, MD 20993-0002, 301-796-9115.

SUPPLEMENTARY INFORMATION: In FR Doc. 2016-04893, appearing on page 11808 in the Federal Register of Monday, March 7, 2016, the following correction is made:

1. On page 11808, in the third column, the docket number is corrected to read “FDA-2016-D-0768”.

Dated: April 6, 2016.
Leslie Kux,
Associate Commissioner for Policy.

[FR Doc. 2016-08330 Filed 4-11-16; 8:45 am]

BILLING CODE 4164-01-P